DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of July 2006.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

TA-W-59,635; Minnesota Rubber, A Quadion Company, Mason City, IA: June 23, 2005.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-59,481; Electrolux Home Products, Laundry Division, Jefferson, IA: May 22, 2005.

TA-W-59,542; Tyler Pipe Co., Division of McWane, Inc., Macungie, PA: May 15, 2005.

TA-W-59,579; Harodite Industries, Taunton, MA: June 15, 2005.

TA-W-59,641; Arizona Textiles, A Division of Charming Shoppers, Phoenix, AZ: June 27, 2005.

TA-W-59,665; Hillerich and Bradsby Co., Louisville Slugger Division, Ontario, CA: July 3, 2005.

TA-W-59,669; Cedar Works, LLC, Pennington Seed, Inc., Peebles, OH: July 5, 2005.

TA-W-59,448; Collins and Aikman Products Co., Soft Trim Division, Farmville, NC: May 24, 2005.

TA-W-59,541; Waterbury Rolling Mills, Olin Corporation, Waterbury, CT: June 8, 2005.

TA-W-59,604; Georgia Pacific, Idaho White Pine Division, Willstaff Temporary Agency, Savannah, GA: June 21, 2005.

TA-W-59,634; Hi-Lite Industries, Inc., Greensburg, PA: June 26, 2005.

TA-W-59,700; RMG Foundry LLC, Mishawaka, IN: July 10, 2005.

TA-W-59,566; Cho Won, Inc., Van Nuys, CA: June 13, 2005.

TA-W-59,610; E C Service, Inc., New York, NY: June 16, 2005.

The following certifications have been issued. The requirements of Section 222(a)(2)(B) (shift in production) and Section 246(a)(3)(A)(ii) of the Trade Act have been met.

TA-W-59,608; Eaton Corporation, Oklahoma City Clutch Plant, Express & Manpower, Oklahoma City, OK: June 21, 2005.

TA-W-59,644; Quebecor Would Kingsport, Inc., Kingsport, TN: June 24, 2005.

TA-W-59,661; National Starch and Chemical, A Division of Imperial Chemical Industry, Hazleton, PA: June 30, 2005.

TA-W-59,686; Maxtor Corp., A Wholly owned Subsidiary of Seagate Corp., Shrewsbury, MA: July 7, 2005.

TA-W-59,691; Russell Corporation, Russell Activewear Div., Brundidge, AL: July 7, 2005.

TA-W-59,562; Arkema, Inc., Thiochemicasl Division, Riverview, MI: May 26, 2005.

TA-W-59,619; Williams Controls, Inc., Opti Staffing, Madden Industrial Craftsman, Staffmark, Portland, OR: June 20, 2005.

TA-W-59,663; Stapleton Metals Division, Clarksville, AR: July 3, 2005.

TA-W-59,676; Job Store, Inc. (The), On-Site At Picolight, Inc., Louisville, CO: July 6, 2005.

TA-W-59,692; Hooker Furniture Corp., Roanoke, VA: July 10, 2005.

The following certifications have been issued. The requirements of Section 222(b) (supplier to a firm whose workers are certified eligible to apply for TAA) and Section 246(a)(3)(A)(ii) of the Trade Act have been met.

TA-W-59,442; TCI Ceramics, Inc., A Subsidiary of National

Magnetics Group, Hagerstown, MD: May 22, 2005.

TA-W-59,558, Clarion Technologies, Inc., Caledonia, MI: June 21, 2005.

TA-W-59,657; IH Services, Inc., Working at Rabun Apparel, Inc., A Division of Fruit of the Loom, Rabun Gap, GA: June 29, 2005.

The following certifications have been issued. The requirements of Section 222(b) (downstream producer for a firm whose workers are certified eligible to apply for TAA based on increased imports from or a shift in production to Mexico or Canada) and Section 246(a)(3)(A)(ii) of the Trade Act have been met.

None.

Negative Determinations For Alternative Trade Adjustment Assistance

In the following cases, it has been determined that the requirements of 246(a)(3)(A)(ii) have not been met for the reasons specified.

The Department as determined that criterion (1) of Section 246 has not been met. Workers at the firm are 50 years of age or older.

None.

The Department as determined that criterion (2) of Section 246 has not been met. Workers at the firm possess skills that are easily transferable.

TA-W-59,635; Minnesota Rubber, A Quadion Company, Mason City, IA.

The Department as determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Since the workers of the firm are denied eligibility to apply for TAA, the workers cannot be certified eligible for ATAA.

The investigation revealed that criteria (a)(2)(A)(I.A.) and (a)(2)(B)(II.A.) (employment decline) have not been met.

TA-W-59,624; Pintex Cutting Company, Greenville, SC.

TA-W-59,642; Fontaine International, Inc., Calera, AL.

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-58,891; Molnlycke Health Care, Inc., El Paso, TX.

TA-W-59,517; Advanced Electronics, Inc., Boston, MA.

The investigation revealed that the predominate cause of worker separations is unrelated to criteria (a)(2)(A)(I.C.) (increased imports) and (a)(2)(B)(II.C) (shift in production to a foreign country).

TA-W-59,520; Leemah Electronics, Inc., San Francisco, CA.

TA-W-59,627; Liebert Corporation, Irvine, CA.

The workers' firm does not produce an article as required for certification under Section 222 of the Trade Act of 1974.

TA-W-59,494; Sun Microsystems, Inc., Information Technology Group, Santa Clara, CA.

TA-W-59,521; Dora L. International, Customer Service Division, Los Angeles, CA.

TA-W-59,632; Lightmaster Systems, Inc., Cupertino, CA.

TA-W-59,637; Americas Finance Organization, A Subdivision of Lenovo USA, Research Triangle Park, NC.

TA-W-59,640; Armstrong World Industries Inc., Customer Service Call Center, Lancaster, PA.

TA-W-59,662; Geneva Steel LLC, A Subsidiary of Geneva Steel Holdings, Vineyard, UT.

TA-W-59,683; Morse Automotive Corp., Arkadelphia, AR.

The investigation revealed that criteria of Section 222(b)(2) has not been met. The workers' firm (or subdivision) is not a supplier to or a downstream producer for a firm whose workers were certified eligible to apply for TAA.

TA-W-59,534; Pictorial Engraving Co., Charlotte, NC.

I hereby certify that the aforementioned determinations were issued during the month of July 2006. Copies of these determinations are available for inspection in Room C-5311, U.S. Department of Labor, 200 Constitution Avenue, NW., Washington, DC 20210 during normal business hours or will be mailed to persons who write to the above address.

Dated: July 28, 2006.
Erica R. Cantor,
Director, Division of Trade Adjustment Assistance.

[FR Doc. E6-12623 Filed 8-3-06;

BILLING CODE 4510-30-P